ENVIRONMENTAL PROTECTION AGENCY

[FRL-7107-3]

Agency Information Collection Activities

AGENCY: Environmental Protection Agency (EPA).

ACTION: Notice.

SUMMARY: In compliance with the Paperwork Reduction Act (44 U.S.C. 3501 et seq.), this notice announces that EPA is planning to submit the following proposed and/or continuing Information Collection Requests (ICRs) to the Office of Management and Budget (OMB). Before submitting the ICRs to OMB for review and approval, EPA is soliciting comments on specific aspects of the proposed information collections as described below.

DATES: Comments must be submitted on or before January 25, 2002.

ADDRESSES: U.S. Environmental Protection Agency, 1200 Pennsylvania Avenue NW., Mail Code 2225A, OECA/OC/AgD, Washington, DC 20460. A copy of this ICR may be obtained from Stephen Howie tel: (202) 564-4146; e-mail: howie.stephen@epa.gov.

FOR FURTHER INFORMATION CONTACT: Stephen Howie, tel: (202) 564-4146; FAX: (202) 564-0085; e-mail: howie.stephen@.epa.gov.

SUPPLEMENTARY INFORMATION: Affected entities: Entities potentially affected by this action are those which produce pesticides.

Title: Application for Registration of Pesticide Producing Establishment (EPA Form 3540-8) and Pesticides Report for Pesticide Producing Establishments (EPA Form 3540-16). OMB Control Number 2070-0078. Expires 5/31/2002.

Abstract: The Federal Insecticide, Fungicide, and Rodenticide Act (FIFRA) section 7(a) requires that any person who produces pesticides or active ingredients subject to the Act must register with the Administrator of EPA the establishment in which the pesticide is produced. This section further requires that the application for registration of any establishment shall include the name and address of the establishment and of the producer who operates such an establishment. EPA Form 3540-8, Application for Registration of Pesticide-Producing Establishments, is used to collect the establishment registration information required by this section.

FIFRA section 7(c) requires that any producer operating an establishment registered under section 7 report to the Administrator within 30 days after it is registered, and annually thereafter by March 1st for certain pesticide/device production and sales/distribution information. The producers must report which types and amounts of pesticides, active ingredients, or devices are currently being produced, were produced during the past year, sold or distributed in the past year. The supporting regulations at 40 CFR part 167 provide the requirements and time schedules for submitting production information. EPA Form 3540-16, Pesticide Reports for Pesticide-Producing Establishments, is used to collect the pesticide production information required by section 7(c) of FIFRA.

Establishment registration is a one-time requirement for all pesticide-producing establishments. Pesticide production information, is required to be submitted within 30 days of receipt of the Notification of Registration of Pesticide-Producing Establishments and annually thereafter on or before March 1.

An Agency may not conduct or sponsor, and a person is not required to respond to, a collection of information unless it displays a currently valid OMB control number. The OMB control numbers for EPA's regulations are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden: The average annual burden to the industry over the next three years is estimated to be 2 person hours per response.

Respondents/affected entities: 12,412.

Estimated number of respondents: 12,412.

Frequency of responses: 1.

Estimated total annual hour burden: 24,824.

There are no capital/startup costs or operating and maintenance (O&M) costs associated with this ICR since all equipment associated with this ICR is present as part of ordinary business practices.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: November 7, 2001.
Kate M. Perry,
Acting Director, Agriculture Division.

[FR Doc. 01-29384 Filed 11-23-01; 8:45 am]

BILLING CODE 6560-50-P